SMALL BUSINESS ADMINISTRATION

[Disaster Declaration # 10129]

Massachusetts Disaster # MA-00002 Declaration of Economic Injury

AGENCY: U.S. Small Business Administration.

ACTION: Notice.

SUMMARY: This is a notice of an Economic Injury Disaster Loan (EIDL) declaration for the State of Massachusetts, dated 6/14/2005.

Incident: Outbreak of Red Tide.

Incident Period: 4/01/2005 and continuing.

DATES: Effective Date: 6/14/2005.

EIDL Loan Application Deadline Date: 3/14/2006.

ADDRESSES: Submit completed loan applications to: U.S. Small Business Administration, Disaster Area Office 3, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the Administrator's EIDL declaration on 6/14/2005, applications for economic injury disaster loans may be filed at the address listed above or other locally announced locations.

The following areas have been determined to be adversely affected by the disaster:

Primary Counties: Barnstable, Essex, Nantucket, Plymouth

Contiguous Counties: Massachusetts,

Bristol, Dukes, Middlesex, Norfolk, Suffolk

New Hampshire

Hillsborough, Rockingham

The Interest Rate is: 4.000

The number assigned to this disaster for economic injury is 101290.

The States which received EIDL Decl # are Massachusetts and New Hampshire.

(Catalog of Federal Domestic Assistance Numbers 59002.)

Dated: June 14, 2005.
Hector V. Barreto,
Administrator.

[FR Doc. 05-12252 Filed 6-21-05; 8:45 am]

BILLING CODE 8025-01-P